DEPARTMENT OF AGRICULTURE

Forest Service

Olympic Peninsula Resource Advisory Committee

AGENCY: Forest Service, USDA.

ACTION: Notice of meeting.

SUMMARY: The Olympic Peninsula Resource Advisory Committee will meet in Olympia, WA. The committee is authorized under the Secure Rural Schools and Community Self-Determination Act (the Act) and operates in compliance with the Federal Advisory Committee Act. The purpose of the committee is to improve collaborative relationships and to provide advice and recommendations to the Forest Service concerning projects and funding consistent with the title II of the Act. The meeting is open to the public. The purpose of the meeting is to review and recommend projects authorized under title II of the Act.

DATES: The meeting will be held September 12, 2012, from 9:00 a.m. until 4:00 p.m.

ADDRESSES: The meeting will be held at Olympic National Forest, Supervisor's Office, in the Willaby Conference Room, located at 1835 Black Lake Blvd. SW., Olympia, WA 98512. A conference call line will be made available for members of the public who would like to call in. For conference call line access information, please contact Grace Haight at 360-956-2303.

Written comments may be submitted as described under Supplementary Information. All comments, including names and addresses when provided, are placed in the record and are available for public inspection and copying. The public may inspect comments received at Olympic National Forest, Supervisor's Office, located in Olympia, WA. Please call ahead to Grace Haight at 360-956-2303 to view comments.

FOR FURTHER INFORMATION CONTACT: Donna Nemeth, Public Affairs Officer, Olympic National Forest, Supervisor's Office, 360-956-2274, dnemeth@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The following business will be conducted: The Olympic Peninsula Resource Advisory Committee will review 2013 Title II project proposals and make funding recommendations. More information can be viewed at http://www.fs.usda.gov/detail/olympic/workingtogether/advisorycommittees?cid=fsbdev3_049547.

Anyone who would like to bring related matters to the attention of the committee may file written statements with the committee staff before or after the meeting. The agenda will include time for people to make oral statements of three minutes or less. Individuals wishing to make an oral statement should request in writing by September 5, 2012 to be scheduled on the agenda. Written comments and requests for time for oral comments must be sent to Olympic National Forest, 1835 Black Lake Blvd. SW., Olympia, WA 98512, attention Grace Haight, or by email to gahaight@fs.fed.us or via facsimile to 360-956-2330. A summary of the meeting will be posted at http://www.fs.usda.gov/detail/olympic/workingtogether/advisorycommittees?cid=fsbdev3_049547 within 21 days of the meeting.

Meeting Accommodations: If you are a person requiring reasonable accommodation, please make requests in advance for sign language interpreting, assistive listening devices or other reasonable accommodation for access to the facility or proceedings by contacting the person listed under FOR FURTHER INFORMATION CONTACT. All reasonable accommodation requests are managed on a case by case basis. Wheelchair accessibility is available at the front entrance of the Supervisor's Office.

Dated: August 24, 2012.
Amanda McAdams,
Acting Forest Supervisor.

[FR Doc. 2012-21561 Filed 8-30-12; 8:45 am]

BILLING CODE 3410-11-P